FEDERAL COMMUNICATIONS COMMISSION

47 CFR Part 51

[CC Docket Nos. 98-147, 98-11, 98-26, 98-32, 98-15, 98-78, 98-91; FCC 00-293]

Deployment of Wireline Services Offering Advanced Telecommunications Capability

AGENCY: Federal Communications Commission (FCC).

ACTION: Final Rule; denial of reconsideration.

SUMMARY: This document affirms on reconsideration the Commission's determination that section 706(a) of the Telecommunications Act of 1996 (1996 Act) does not constitute an independent grant of forbearance authority. This documents also affirms on reconsideration the requirement that incumbent local exchange carriers (LECs) must provide unbundled loops conditioned to carry advanced services, even if the incumbent is not itself providing such services.

FOR FURTHER INFORMATION CONTACT: William Kehoe, Special Counsel, Common Carrier Bureau, Policy and Program Planning Division, 202-418-1580. Further information also may be obtained by calling the Common Carrier Bureau's TTY number: 202-418-0484.

SUPPLEMENTARY INFORMATION: This is a summary of the Commission's Order on Reconsideration in CC Docket No. 98-147, FCC 00-293, adopted on August 3, 2000, and released August 4, 2000. The complete text of this Order on Reconsideration is available for inspection and copying during normal business hours in the FCC Reference Information Center, Courtyard Level, 445 Twelfth Street, SW. Washington, DC, and also may be purchased from the Commission's copy contractor, International Transcription Services (ITS), CY-B400, 445 Twelfth Street, SW., Washington, DC.

1. In the Advanced Services Order, 63 FR 45140, August 24, 1998, the Commission addressed, among other matters, petitions in which several BOCs, including Bell Atlantic and SBC, had requested that the Commission forbear from applying the provisions of sections 251(c) and 271 to their advanced services. In rejecting those requests, the Commission explained in detail why, in light of the statutory language, the framework of the 1996 Act, its legislative history, and Congress' policy objectives, the most logical statutory interpretation is that section 706(a) does not constitute an independent grant of authority. The Commission therefore determined that section 706(a) does not constitute an independent grant of forbearance authority. In petitions for reconsideration of the Advanced Services Order, Bell Atlantic and SBC challenged that determination. In the Order on Reconsideration, the Commission affirmed that section 706(a) does not constitute an independent grant of forbearance authority.

2. In the Advanced Services Order, the Commission concluded that the rules adopted in the Local Competition First Report and Order required that, to the extent technically feasible, an incumbent LEC must provide to competing carriers unbundled loops conditioned to carry advanced services, even if the incumbent is not itself providing such services. Bell Atlantic and SBC requested reconsideration of this conclusion. In the Order on Reconsideration, the Commission denied that request based on the treatment of loop conditioning in its UNE Remand Order.

Paperwork Reduction Act of 1995 Analysis

3. The actions contained in this Order on Reconsideration affirmed prior Commission actions and thus do not impose new or modified reporting requirements on the public.

Regulatory Flexibility Analysis (RFA)

4. The Order on Reconsideration affirmed prior Commission actions and thus does not change the Commission's regulatory flexibility analysis.

Procedural Matters

5. Pursuant to sections 1-4, 10, 201, 202, 251-254, 271, and 303(r) of the Communications Act of 1934, as amended, 47 U.S.C. 151-154, 160, 201, 202, 251-254, 271, and 303(r), that the Petitions for Reconsideration filed September 8, 1998, by Bell Atlantic and SBC Are Denied.

Federal Communications Commission.

Magalie Roman Salas,
Secretary.

[FR Doc. 01-670 Filed 1-10-01; 8:45 am]

BILLING CODE 6712-01-P